NATIONAL FOUNDATION ON THE ARTS AND THE HUMANITIES

Meetings of Humanities Panel

AGENCY: The National Endowment for the Humanities, National Foundation on the Arts and the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of Title 5, United States Code.

1. Date: August 1, 2011.

Time: 8:30 a.m. to 5 p.m.

Location: Room 315.

Program: This meeting will review applications for Art History II in Fellowships Program, submitted to the Division of Research Programs at the May 3, 2011 deadline.

2. Date: August 1, 2011.

Time: 8:30 a.m. to 5 p.m.

Location: Room 415.

Program: This meeting will review applications for Communication, Rhetoric and Linguistics in Fellowships Program, submitted to the Division of Research Programs at the May 3, 2011 deadline.

3. Date: August 2, 2011.

Time: 8:30 a.m. to 5 p.m.

Location: Room 315.

Program: This meeting will review applications for American History I in Fellowships Program, submitted to the Division of Research Programs at the May 3, 2011 deadline.

4. Date: August 2, 2011.

Time: 8:30 a.m. to 5 p.m.

Location: Room 415.

Program: This meeting will review applications for Musicology and Dance History in Fellowships, submitted to the Division of Research Programs at the May 3, 2011 deadline.

5. Date: August 2, 2011.

Time: 9 a.m. to 5 p.m.

Location: Room 421.

Program: This meeting will review applications for Colleges & Universities II, submitted to the Office of Challenge Grants at the May 4, 2011 deadline.

6. Date: August 2, 2011.

Time: 9 a.m. to 5 p.m.

Location: Room 527.

Program: This meeting will review applications for Research and Development I in Preservation and Access Research and Development Program, submitted to the Division of Preservation and Access at the May 19, 2011 deadline.

7. Date: August 3, 2011.

Time: 8:30 a.m. to 5 p.m.

Location: Room 315.

Program: This meeting will review applications for American Studies I in Fellowships Program, submitted to the Division of Research Programs at the May 3, 2011 deadline.

8. Date: August 3, 2011.

Time: 8:30 a.m. to 5 p.m.

Location: Room 415.

Program: This meeting will review applications for American Studies II in Fellowships Program, submitted to the Division of Research Programs at the May 3, 2011 deadline.

9. Date: August 4, 2011.

Time: 8:30 a.m. to 5 p.m.

Location: Room 315.

Program: This meeting will review applications for American History III in Fellowships Program, submitted to the Division of Research Programs at the May 3, 2011 deadline.

10. Date: August 4, 2011.

Time: 8:30 a.m. to 5 p.m.

Location: Room 415.

Program: This meeting will review applications for African Studies & Middle Eastern Studies in Fellowships Program, submitted to the Division of Research Programs at the May 3, 2011 deadline.

11. Date: August 4, 2011.

Time: 9 a.m. to 5 p.m.

Location: Room 421.

Program: This meeting will review applications for History II, submitted to the Office of Challenge Grants at the May 4, 2011 deadline.

12. Date: August 4, 2011

Time: 9 a.m. to 5 p.m.

Location: Room 527.

Program: This meeting will review applications for Research and Development II in Preservation and Access Research and Development Program, submitted to the Division of Preservation and Access at the May 19, 2011 deadline.

13. Date: August 5, 2011.

Time: 8:30 a.m. to 5 p.m.

Location: Room 315.

Program: This meeting will review applications for South and Southeast Asian Studies in Fellowships Program, submitted to the Division of Research Programs at the May 3, 2011 deadline.

14. Date: August 8, 2011.

Time: 8:30 a.m. to 5 p.m.

Location: Room 315.

Program: This meeting will review applications for Romance Studies in Fellowships Program, submitted to the Division of Research Programs at the May 3, 2011 deadline.

15. Date: August 8, 2011.

Time: 8:30 a.m. to 5 p.m.

Location: Room 415.

Program: This meeting will review applications for Ancient and Classical Studies & Archaeology in Fellowships Program, submitted to the Division of Research Programs at the May 3, 2011 deadline.

16. Date: August 9, 2011.

Time: 8:30 a.m. to 5 p.m.

Location: Room 315.

Program: This meeting will review applications for New World Archaeology and Anthropology in Fellowships Program, submitted to the Division of Research Programs at the May 3, 2011 deadline.

17. Date: August 9, 2011.

Time: 8:30 a.m. to 5 p.m.

Location: Room 415.

Program: This meeting will review applications for Political Science and Jurisprudence in Fellowships Program, submitted to the Division of Research Programs at the May 3, 2011 deadline.

18. Date: August 10, 2011.

Time: 8:30 a.m. to 5 p.m.

Location: Room 315.

Program: This meeting will review applications for American Literature in Fellowships Program, submitted to the Division of Research Programs at the May 3, 2011 deadline.

19. Date: August 10, 2011.

Time: 8:30 a.m. to 5 p.m.

Location: Room 415.

Program: This meeting will review applications for American Literature and Film in Fellowships Program, submitted to the Division of Research Programs at the May 3, 2011 deadline.

20. Date: August 11, 2011.

Time: 8:30 a.m. to 5 p.m.

Location: Room 315.

Program: This meeting will review applications for Sociology and Psychology in Fellowships Program, submitted to the Division of Research Programs at the May 3, 2011 deadline.

21. Date: August 11, 2011.

Time: 8:30 a.m. to 5 p.m.

Location: Room 415.

Program: This meeting will review applications for American History and Studies in Fellowships Program, submitted to the Division of Research Programs at the May 3, 2011 deadline.

22. Date: August 15, 2011.

Time: 8:30 a.m. to 5 p.m.

Location: Room 315.

Program: This meeting will review applications for Fellowships for Advanced Research on Japan: Advanced Research on Japan, submitted to the Division of Research Programs at the May 3, 2011 deadline.

23. Date: August 15, 2011.

Time: 8:30 a.m. to 5 p.m.

Location: Room 415.

Program: This meeting will review applications for Religious Studies II in Fellowships Program, submitted to the Division of Research Programs at the May 3, 2011 deadline.

24. Date: August 16, 2011.

Time: 8:30 a.m. to 5 p.m.

Location: Room 315.

Program: This meeting will review applications for Modern European History II in Fellowships Program, submitted to the Division of Research Programs at the May 3, 2011 deadline.

25. Date: August 17, 2011.

Time: 8:30 a.m. to 5 p.m.

Location: Room 315.

Program: This meeting will review applications for Early Modern European History in Fellowships Program, submitted to the Division of Research Programs at the May 3, 2011 deadline.

26. Date: August 17, 2011.

Time: 8:30 a.m. to 5 p.m.

Location: Room 415.

Program: This meeting will review applications for Medieval and Renaissance Studies in Fellowships Program, submitted to the Division of Research Programs at the May 3, 2011 deadline.

27. Date: August 25, 2011.

Time: 9 a.m. to 5 p.m.

Location: Room 415.

Program: This meeting will review applications for Education & Training in Preservation and Access Education & Training Program, submitted to the Division of Preservation and Access at the June 30, 2011 deadline.

Michael P. McDonald,
Advisory Committee, Management Officer.

[FR Doc. 2011-18117 Filed 7-18-11; 8:45 am]

BILLING CODE 7536-01-P